DEPARTMENT OF JUSTICE

Notice of Lodging of Consent Decree Under the Comprehensive Environmental Response, Compensation, and Liability Act

Notice is hereby given that on March 20, 2007, a proposed Consent Decree in the lead case Lyondell Chemical Co., et al. v. Albemarle Corp. et al., Civil Action No. 01CV890, consolidated with United States v. EPEC Polymers, Inc., 02CV003, and El Paso Tennessee Pipeline Co., et al. v. Chevron USA, Inc., et al., 03CV0225, was lodged with the United States District Court for the Eastern District of Texas.

This settlement relates to the Petro-Chemical Systems, Inc. Superfund Site located in Liberty County, Texas (“the Site”), approximately 15 miles southeast of Liberty, Texas. The Site was used as an unpermitted waste disposal site from the late 1960's through the 1970's and received wastes from the petrochemical industry in Houston.

On December 6, 2001, Atlantic Richfield Company (hereinafter “ARCO”) and Lyondell Chemical Company (successor to Arco Chemical Company) (together with ARCO, hereinafter “ARCO/Lyondell”) sued a number of parties, including the Settling Funding Defendants (AK Steel Corporation, Beazer East, Inc., E.I. du Pont de Nemours and Company, The Goodyear Tire & Rubber Company, Southline Metal Products Company, Inc., and United States Steel Corporation) and the Settling El Paso Defendants (EPEC Polymers, Inc., El Paso Tennessee Pipeline Company, EPEC Corporation, and Tennessee Gas Pipeline Company), for cost recovery and contribution under CERCLA Sections 107 and 113, 42 U.S.C. 9607 and 9613, on the grounds that these parties were liable under CERCLA for the remediation of the Site. On January 3, 2002, the United States filed a complaint against EPEC Polymers, Inc. pursuant to CERCLA Section 107, 42 U.S.C. 9607, seeking, inter alia: (1) Reimbursement of response costs and (2) a declaratory judgment of liability for any future response costs incurred by the United States at the Site. The Settling El Paso Defendants also brought contribution claims against various parties including the Settling Funding Defendants.

Under the proposed Consent Decree, the United States provides covenants not to sue settling defendants under CERCLA Sections 106 and 107, 42 U.S.C. 9606 and 9607, in connection with the Site. CERCLA Section 113(f)(2), 42 U.S.C. 9613(f)(2), provides that contribution protection arises for matters addressed in the proposed Consent Decree. The proposed Consent Decree defines the “matters addressed” as “all response actions taken or to be taken and all response costs incurred or to be incurred by the United States or any other person with respect to the Site.” In addition, under the proposed Consent Decree, EPEC Polymers, Inc. will: (1) Reimburse the United States for $6.9 million of its past costs (with interest accruing since January 17, 2005); (2) will remediate two of the three remaining known contaminated areas of the Site (the value of the project is currently estimated to be $13.4 million); and (3) will reimburse the United States approximately $3.1 million for costs incurred after July 31, 2004. In addition, the Settling Funding Defendants will be obligated to pay a share of the Remedial Action costs ($5,837,000) to EPEC Polymers, Inc. and ARCO/Lyondell.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. EPEC Polymersm, Inc., D.J. Ref. 90-11-3-709/1.

The Consent Decree may be examined at the Office of the United States Attorney, Eastern District of Texas, 350 Magnolia Avenue, Suite 350, Beaumont, Texas 77657, and at U.S. EPA Region 6, 1445 Ross Avenue, Dallas, Texas 75202. During the public comment period, the Consent Decree, may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy by mail, from the Consent Decree Library, please enclose a check in the amount of $29.95 (25 cents per page reproduction cost) payable to the U.S. Treasury.

Thomas A. Mariani, Jr.,
Assistant Chief, Environmental Enforcement Section, Environment and Natural Resources Division.

[FR Doc. 07-1656 Filed 4-4-07; 8:45 am]

BILLING CODE 4410-15-M